DEPARTMENT OF ENERGY

Federal Energy Regulatory Commission

[Docket No. RP00-469-000]

East Tennessee Natural Gas Company; Notice of Technical Conference

November 21, 2000.

On August 15, 2000, East Tennessee Natural Gas Company (East Tennessee) submitted a filing to comply with Order No. 637. Several parties have protested various aspects of East Tennessee's filing.

Take notice that a technical conference to discuss the various issues raised by East Tennessee's filing will be held on Tuesday, December 12, 2000, at 10:00 am, in a room to be designated at the offices of the Federal Energy Regulatory Commission, 888 First Street, NE, Washington, DC 20426. Parties protesting aspects of East Tennessee's filing should be prepared to discuss and alternatives.

All interested parties and Staff are permitted to attend.

David P. Boergers,
Secretary.

[FR Doc. 00-30205 Filed 11-27-00; 8:45 am]

BILLING CODE 6717-01-M